DEPARTMENT OF HOMELAND SECURITY

Transportation Security Administration

New Agency Information Collection Activity Under OMB Review: TSA Claims Management System

AGENCY: Transportation Security Administration (TSA), DHS.

ACTION: Notice.

SUMMARY: This notice announces that TSA has forwarded the new Information Collection Request (ICR) abstracted below to the Office of Management and Budget (OMB) for review and approval under the Paperwork Reduction Act. The ICR describes the nature of the information collection and its expected burden. TSA published a Federal Register notice, with a 60-day comment period soliciting comments, of the following collection of information on January 11, 2006, 71 FR 1763.

DATES: Send your comments by June 23, 2006. A comment to OMB is most effective if OMB receives it within 30 days of publication.

ADDRESSES: Comments may be faxed to the Office of Information and Regulatory Affairs, Office of Management and Budget, Attention: DHS-TSA Desk Officer, at (202) 395-5806.

FOR FURTHER INFORMATION CONTACT: Katrina Wawer, Attorney-Advisor, Office of Chief Counsel, TSA-2, Transportation Security Administration, 601 South 12th Street, Arlington, VA 22202-4220; telephone (571) 227-1995; facsimile (571) 227-1381.

SUPPLEMENTARY INFORMATION:

Comments Invited

In accordance with the Paperwork Reduction Act of 1995, (44 U.S.C. 3501 et seq.), an agency may not conduct or sponsor, and a person is not required to respond to a collection of information, unless it displays a valid OMB control number. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

Title: TSA Claims Management System.

Type of Request: New collection.

OMB Control Number: Not yet assigned.

Form(s): Supplemental Information Form, Payment Form.

Affected Public: Members of the traveling public who believe they have experienced property loss or damage, a personal injury, or other damages due to the negligence or wrongful act or omission of a TSA employee, and decide to file a Federal tort claim against TSA.

Abstract: TSA needs to collect certain information, in addition to that collected on the Standard Form 95, from claimants in order to investigate claims properly. TSA is seeking approval for its two supplemental forms, as well as the electronic claims management system currently in development, which will ease the burden on claimants and streamline the claims process. TSA will use the data collected from claimants to investigate and analyze tort claims against the agency to determine alleged TSA liability and to reimburse claimants when claims are approved. For more information, please see TSA's Claims Management Office Internet Web site at http://www.tsaclaims.org.

Number of Respondents: 24,000. The number of respondents (28,800) TSA estimated in its January 11 notice was a high estimate and, after further evaluation, TSA believes this figure is a much closer estimate.

Estimated Annual Burden Hours: 6,400. In light of the reduction in the number of estimated annual respondents, TSA has also made a corresponding reduction in the estimated annual burden hours reported in its January 11 notice.

Issued in Arlington, Virginia, on May 17, 2006.
Peter Pietra,
Director of Privacy Policy and Compliance.

[FR Doc. E6-7904 Filed 5-23-06; 8:45 am]

BILLING CODE 9110-05-P